DEPARTMENT OF THE TREASURY

Submission for OMB Review; Comment Request

December 14, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before January 22, 2001 to be assured of consideration.

Financial Management Service (FMS)

OMB Number: 1510-0066.

Form Number: None.

Type of Review: Extension.

Title: 31 CFR Part 208—Management of Federal Agency Disbursements; Final Rule.

Description: This regulation requires that most Federal payments be made by Electronic Funds Transfer (EFT); sets forth waiver requirements; and provides for a low-cost Treasury designated account to individuals at a financial institution who offers such accounts.

Respondents: Business or other for-profit, Individuals or households, Not-for-profit institutions.

Estimated Number of Respondents: 1,300.

Estimated Burden Hours Per Respondent: 15 minutes.

Estimated Total Reporting Burden: 325 hours.

Clearance Officer: Juanita Holder, Financial Management Service, 3700 East West Highway, Room 144, PGP II, Hyattsville, MD 20782.

OMB Reviewer: Alexander T. Hunt, (202) 395-7860, Office of Management and Budget, Room 10202, New Executive Office Building, Washington, DC 20503.

Lois K. Holland,
Departmental Reports Management Officer.

[FR Doc. 00-32490 Filed 12-20-00; 8:45 am]

BILLING CODE 4810-35-P